DEPARTMENT OF HEALTH AND HUMAN SERVICES

45 CFR Part 153

[CMS-9913-P]

RIN 0938-AU23

Amendments to the HHS-Operated Risk Adjustment Data Validation Under the Patient Protection and Affordable Care Act's HHS-Operated Risk Adjustment Program

Correction

In proposed rule document 11703, appearing on pages 33595-33617, in the issue of Tuesday, June 2, 2020, make the following changes:

1. On page 33600, in the first column, on the third and fourth lines, the equation should read “If GFRG,i > UBG or GFRG,i < LBG, And if Freq_EDGEG,i ≥ 30”

2. On the same page, in the second column, in the seventh and eighth lines following the center-set equation, should read “AdjRSi,e = EdgeRSi,e * (1 − Adjustmenti,e)”.

3. On page 33608, in the first column, on the second line, the equation should read “GFRG,i = zG,i * Sd{GFRG} + μ{GFRG}”.

4. On page 33611, in the third column, on the first line, the equation should read “br = outerZr − a * (outerZr) = outerZr * (1 − a)”.

[FR Doc. C1-2020-11703 Filed 6-24-20; 8:45 am]

BILLING CODE 1301-00-D